DEPARTMENT OF COMMERCE

National Oceanic and Atmospheric Administration

[I.D.060100C]

Endangered Species; Permits

AGENCY: National Marine Fisheries Service (NMFS), National Oceanic and Atmospheric Administration (NOAA), Commerce.

ACTION: Receipt of application for an enhancement permit (1258); Issuance of permits 1245 and 1231; Issuance of Amendment #1 to Permit #1178.

SUMMARY: Notice is hereby given of the following actions regarding permits for takes of endangered and threatened species for the purposes of scientific research and/or enhancement: NMFS has received a permit application from the North Carolina Zoological Park (NCZP) (1258); NMFS has issued permit 1245 to Mr. J. David Whitaker, of South Carolina Department of Natural Resources (SCDNR) (1245); Amendment #1 to permit 1178 to Mr. Darryl Christenson, of the National Marine Fisheries Service, Northeast Fisheries Science Center (NMFS-NEFSC) (1178);and permit 1231 to Dr. Llewellyn M. Ehrhart, of University of Central Florida, Dept. of Biological Science (UCF) (1231).

DATES: Comments or requests for a public hearing on any of the new applications or modification requests must be received at the appropriate address or fax number no later than 5:00 pm eastern standard time on July 10, 2000.

ADDRESSES: Written comments on any of the new applications or modification requests should be sent to the appropriate office as indicated below. Comments may also be sent via fax to the number indicated for the application or modification request. Comments will not be accepted if submitted via e-mail or the internet. The applications and related documents are available for review in the indicated office, by appointment:

For Amendment #1 to permit 1178, and permits 1258, 1231 and 1245, Endangered Species Division, Office of Protected Resources, NMFS, 1315 East-West Highway, Silver Spring, MD, 20910 (Ph.: 301-713-1401).

FOR FURTHER INFORMATION CONTACT: For Amendment #1 to permit 1178, and permits 1258, 1231 and 1245: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species and evolutionarily significant units (ESU's) are covered in this notice:

The following species are covered in this notice: endangered shortnose sturgeon (Acipenser brevirostrum), endangered Green turtle (Chelonia mydas), Endangered Kemp's ridley turtle (Lepidochelys kempii), Endangered Leatherback turtle (Dermochelys coriacea), Threatened Loggerhead turtle (Caretta caretta).

New Applications Received

NMFS has received and application from the North Carolina Zoological Park has requested a five year permit to continue to maintain four (4) adult shortnose sturgeon in captivity for enhancement purposes. The applicant currently possesses four adult shortnose sturgeon received from the US Fish and Wildlife Service hatchery at Warm Springs Georgia in November 1996 under scientific research permit #986. Permit 986 will expire on December 31, 2000 and the permit holder does not wish to renew the enhancement aspects of the permit. As a result, the North Carolina Zoological Park is applying for an individual permit to continue maintenance of these fish.

Permits and Amendments Issued

Notice was published on March 21, 2000 (65 FR 15131) that Mr. J. David Whitaker, of South Carolina Department of Natural Resources applied for a scientific research permit (1245). The applicant has requested a three year permit to establish scientifically-valid indices of abundance for the northern sub-population of the threatened loggerhead turtle and the endangered Kemp's ridley, green and leatherback sea turtles which occur in the Atlantic Ocean off the southeastern United States. This study is intended to capture juveniles and adults, thereby providing a more comprehensive assessment of total population abundance and an assessment of the health of individual animals. Permit 1245 was issued on May 19, 2000, authorizing take of listed species. Permit 1245 expires October 31, 2002.

NMFS has amended permit #1178 issued October 19, 1998. The amendment removes three annual reporting requirements and revises a permit special condition. The permit holder possesses a 5-year scientific research permit to take listed sea turtles incidentally taken in foreign and domestic commercial fisheries operating in state waters and the Exclusive Economic Zone in the Northwest Atlantic Ocean. The work will be conducted by scientific observers aboard commercial fishing vessels. This research supports the National Marine Fisheries Service's mission of assessing the impacts of commercial fisheries on marine resources of interest to the United States. Amendment #1 to Permit 1178 was issued on May 31, 2000, authorizing take of listed species. Permit 1178 expires December 21, 2003.

Notice was published on January 14, 2000 (65 FR 2381) that Dr. Llewellyn M. Ehrhart, of the University of Central Florida, Dept of Biological Science applied for a scientific research permit (1231). The Recovery Plan for the U.S. Population of Atlantic Green Turtle states that the foremost problem in management and conservation of sea turtles is the lack of basic biological information. This study proposes to capture turtles living in the Indian River Lagoon Estuary of central Florida in Brevard and Indian River counties. The data provided by the study will include information regarding habitat requirements, seasonal distribution and abundance, movement and growth, feeding preferences, sex distribution and the prevalence and severity of fibropapilloma. Permit 1231 was issued on May 31, 2000, authorizing take of listed species. Permit 1231 expires March 31, 2005.

Dated: June 5, 2000.
Wanda L. Cain,
Chief, Endangered Species Division, Office of Protected Resources, National Marine Fisheries Service.

[FR Doc. 00-14673 Filed 6-8-00; 8:45 am]

BILLING CODE 3510-22-F